COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products from the Procurement List previously furnished by nonprofit agencies employing persons who are blind or have other severe disabilities.

DATES: Effective Date: 1/10/2016.

ADDRESSES: Committee for Purchase From People Who Are Blind or Severely Disabled, 1401 S. Clark Street, Suite 715, Arlington, Virginia, 22202-4149.

FOR FURTHER INFORMATION CONTACT: Patricia Briscoe, Telephone: (703) 603-7740, Fax: (703) 603-0655, or email CMTEFedReg@AbilityOne.gov.

SUPPLEMENTARY INFORMATION:

Deletions

On 10/30/2015 (80 FR 66880) and 11/6/2015 (80 FR 68860-68862), the Committee for Purchase From People Who Are Blind or Severely Disabled published notices of proposed deletions from the Procurement List.

After consideration of the relevant matter presented, the Committee has determined that the products listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products to the Government.

3. There are no known regulatory alternatives which would accomplish the objectives of the Javits-Wagner-O'Day Act (41 U.S.C. 8501-8506) in connection with the products deleted from the Procurement List.

End of Certification

Accordingly, the following products are deleted from the Procurement List:

Products

NSN(s)—Product Name(s): 7125-00-449-6862—Cabinet, Storage

Mandatory Source(s) of Supply: UNKNOWN

Contracting Activity: Defense Logistics Agency Aviation, Richmond, VA

NSN(s)—Product Name(s):

7510-01-429-6946—DAYMAX System, Scratch Pad Refill, Lined, 6-hole

7510-01-429-7418—DAYMAX System, Replacement Binder, LE, Zipper Closure, 3-hole, Burgundy

7510-01-429-7414—DAYMAX System, Replacement Binder, LE, Zipper Closure, 3-hole, Black

7510-01-429-7413—DAYMAX System, Replacement Binder, GLE, 7-hole, Black

7510-01-429-7034—DAYMAX System, Tabbed Sections, 3-hole

7510-01-429-7035—DAYMAX System, Itinerary Refill, 7-hole

7510-01-429-7038—DAYMAX System, ‘Things to Do’ Refill, 3-hole

7510-01-429-7040—DAYMAX System, Account Ledger Refill, 3-hole

7510-01-429-7041—DAYMAX System, Assignment List Refill, DOD, 3-hole.

7510-01-429-7046—DAYMAX System, Account Ledger Refill, 7-hole

7510-01-429-7050—DAYMAX System, Task Plan Refill, DOD, 3-hole.

7510-01-429-7051—DAYMAX System, Tabbed Alpha Directory, 3-hole

7510-01-429-7052—DAYMAX System, DIA ‘Log’ Refill, DOD, 3-hole

7510-01-429-7053—DAYMAX System, Address Directory Refill, 3-hole

7510-01-429-7059—DAYMAX System, Tabbed Alpha Directory, 7-hole

7510-01-429-7063—DAYMAX System, Priority Tabs, DOD, 3-hole.

7510-01-429-7065—DAYMAX System, Agenda Refill, 3-hole

7510-01-429-7066—DAYMAX System, Address Directory Refill, 7-hole

7510-01-429-7068—DAYMAX System, Project Coordinator Refill, 3-hole

7510-01-429-7069—DAYMAX System, Daily Coordinator Refill, DOD, 3-hole.

7510-01-429-7072—DAYMAX System, Project Coordinator Refill, 7-hole

7510-01-429-7074—DAYMAX System, Agenda Refill, 7-hole

7510-01-429-7076—DAYMAX System, Itinerary Refill, 3-hole

7510-01-429-7081—DAYMAX System, Journal Refill, 3-hole

7510-01-429-7412—DAYMAX System, Replacement Binder, IE, Velcro Closure, 3-hole, Burgundy

7510-01-429-7415—DAYMAX System, Replacement Binder, IE, Velcro Closure, 3-hole, Black

7510-01-429-7416—DAYMAX System, Replacement Binder, IE, Velcro Closure, 3-hole, Navy

7510-01-429-7417—DAYMAX System, Replacement Binder, LE, Zipper Closure, 3-hole, Navy

7510-01-429-7472—DAYMAX System, Replacement Binder, GLE, 7-hole, Burgundy

7510-01-429-7474—DAYMAX System, Replacement Binder, GLE, 7-hole, Navy

7510-01-429-7475—DAYMAX System, Replacement Binder, DOD Logo, 3-hole, Zipper Closure, Burgundy

7510-01-429-7477—DAYMAX System, Replacement Binder, 7-hole, Zipper Closure, Woodland Camouflage

7510-01-429-7835—DAYMAX System, Vinyl Zipper Pouch, 3-hole

7510-01-429-7838—DAYMAX System, Tabbed Alpha Directory, 6-hole

7510-01-429-7841—DAYMAX System, ‘Things to Do Refill’, 7-hole

7510-01-429-9609—DAYMAX System, Journal Refill, 7-hole

7510-01-429-7843—DAYMAX System, Sheet Lifter, 3-hole

7510-01-429-9985—DAYMAX System, Business/Credit Card Holder, 3-hole

7510-01-429-9986—DAYMAX System, Ruler/Pagemark, 3-hole

7510-01-463-0794—DAYMAX System, Sheet Lifter, 6-hole

7510-01-463-0802—Logo, Customized, Silkscreen

7510-01-485-6563—DAYMAX System, Sheet Lifter, 7-hole

7510-01-485-6564—DAYMAX System, Vinyl Zipper Pouch, 7-hole

7510-01-485-6565—DAYMAX System, Ruler/Pagemark, 7-hole

7510-01-485-8334—DAYMAX System, Business/Credit Card Holder, 7-hole

7510-01-463-0796—DAYMAX System, ‘Things-To-Do’ Refill, 6-hole

7530-01-429-6938—DAYMAX System, Scratch Pad Refill, Lined, 3-hole

7530-01-429-6940—DAYMAX System, Scratch Pad Refill, Lined, 7-hole

7530-01-429-6948—DAYMAX System, Scratch Pad Refill, Graph, 3-hole

7530-01-429-9505—DAYMAX System, Scratch Pad Refill, Graph, 7-hole

7510-01-429-7043—DAYMAX System, Tabbed Sections, 7-hole

7510-01-545-3775—DAYMAX System, 2014, Calendar Pad, Type II

7510-01-545-3792—DAYMAX System, 2014, Calendar Pad, Type I

7510-01-588-0116—DAYMAX System, 2014, Tabbed Monthly, JR, 6-hole

7510-01-588-0120—DAYMAX System, 2015, Tabbed Monthly, JR, 6-hole

7510-01-588-0132—DAYMAX System, 2014, Week at a View, GLE, 7-hole

7510-01-588-0137—DAYMAX System, 2015, Week at a View, GLE, 7-hole

7530-01-545-3737—DAYMAX System, 2014, Appointment Refill

7530-01-545-3743—DAYMAX System, 2015, Appointment Refill

7530-01-587- 9717—DAYMAX System, 2014, JR Deluxe Planner, 6-hole, Digital Camouflage

7530-01-587- 9717L—DAYMAX System, 2014, JR Deluxe Planner, 6-hole, Digital Camouflage w/logo

7510-01-588-0144—DAYMAX System, 2014, Month at a View, IE/LE, 3-hole

7510-01-588-0149—DAYMAX System, 2014, Tabbed Monthly, IE/LE, 3-hole

7510-01-588-0150—DAYMAX System, 2015, Month at a View, IE/LE, 3-hole

7510-01-588-0153—DAYMAX System, 2015, Tabbed Monthly, IE/LE, 3-hole

7510-01-588-0161—DAYMAX System, 2014, Day at a View, GLE, 7-hole

7510-01-588-0163—DAYMAX System, 2015, Day at a View, GLE, 7-hole

7510-01-588-0165—DAYMAX System, 2015, Month at a View, GLE, 7-hole

7510-01-588-0167—DAYMAX System, 2015, Day at a View, IE/LE, 3-hole

7510-01-588-0192—DAYMAX System, 2014, Week at a View, IE/LE, 3-hole

7510-01-588-0182—DAYMAX System, 2014, Tabbed Monthly, GLE, 7-hole

7510-01-588-0184—DAYMAX System, 2015, Tabbed Monthly, GLE, 7-hole

7510-01-588-0190—DAYMAX System, 2014, Month at a View, GLE, 7-hole

7510-01-588-0194—DAYMAX System, 2015, Week at a View, IE/LE, 3-hole

7510-01-588-0200—DAYMAX System, 2014, Day at a View, IE/LE, 3-hole

7530-01-587-9593—DAYMAX System, 2014, LE Planner, 3-hole, Burgundy

7530-01-587-9593L—DAYMAX System, 2014, LE Planner, 3-hole, Burgundy w/logo

7530-01-587-9594—DAYMAX System, 2014, JR Planner, 6-hole, Burgundy

7530-01-587-9594L—DAYMAX System, 2014, JR Planner, 6-hole, Burgundy w/logo

7530-01-587-9597—DAYMAX System, 2015, JR Planner, 6-hole, Burgundy

7530-01-587-9597L—DAYMAX System, 2015, JR Planner, 6-hole, Burgundy w/logo

7530-01-587-9599—DAYMAX System, 2015, LE Planner, 3-hole, Burgundy

7530-01-587-9599L—DAYMAX System, 2015, LE Planner, 3-hole, Burgundy w/logo

7530-01-587-9613—DAYMAX System, 2014, IE Planner, 3-hole, Burgundy

7530-01-587-9613L—DAYMAX System, 2014, IE Planner, 3-hole, Burgundy w/logo

7530-01-587-9615—DAYMAX System, 2015, IE Planner, 3-hole, Navy

7530-01-587-9615L—DAYMAX System, 2015, IE Planner, 3-hole, Navy w/logo

7530-01-587-9618—DAYMAX System, 2015, IE Planner, 3-hole, Burgundy

7530-01-587-9618L—DAYMAX System, 2015, IE Planner, 3-hole, Burgundy w/logo

7530-01-587-9708—DAYMAX System, 2014, LE Planner, 3-hole, Black

7530-01-587-9708L—DAYMAX System, 2014, LE Planner, 3-hole, Black w/logo

7530-01-587-9621—DAYMAX System, 2014, IE Planner, 3-hole, Black

7530-01-587-9621L—DAYMAX System, 2014, IE Planner, 3-hole, Black w/logo

7530-01-587-9622—DAYMAX System, 2015, IE Planner, 3-hole, Black

7530-01-587-9622L—DAYMAX System, 2015, IE Planner, 3-hole, Black w/logo

7530-01-587-9634—DAYMAX System, 2014, IE Planner, 3-hole, Navy

7530-01-587-9634L—DAYMAX System, 2014, IE Planner, 3-hole, Navy w/logo

7530-01-587-9643—DAYMAX System, 2014, GLE Planner, 7-hole, Burgundy

7530-01-587-9643L—DAYMAX System, 2014, GLE Planner, 7-hole, Burgundy

7530-01-587-9647—DAYMAX System, 2015, GLE Planner, 7-hole, Burgundy

7530-01-587-9647L—DAYMAX System, 2015, GLE Planner, 7-hole, Burgundy w/logo

7530-01-587-9661—DAYMAX System, 2015, GLE Planner, 7-hole, Navy

7530-01-587-9661L—DAYMAX System, 2015, GLE Planner, 7-hole, Navy w/logo

7530-01-587-9678—DAYMAX System, 2014, GLE Planner, 7-hole, Black

7530-01-587-9678L—DAYMAX System, 2014, GLE Planner, 7-hole, Black w/logo

7530-01-587-9684—DAYMAX System, 2014, JR Deluxe Planner, 6-hole, Black

7530-01-587-9684L—DAYMAX System, 2014, JR Deluxe Planner, 6-hole, Black w/logo

7530-01-587-9685—DAYMAX System, 2015, GLE Planner, 7-hole, Black

7530-01-587-9685L—DAYMAX System, 2015, GLE Planner, 7-hole, Black w/logo

7530-01-587-9687—DAYMAX System, 2015, JR Deluxe Planner, 6-hole, Black

7530-01-587-9687L—DAYMAX System, 2015, JR Deluxe Planner, 6-hole, Black w/logo

7530-01-587-9705—DAYMAX System, 2014, JR Planner, 6-hole, Navy

7530-01-587-9705L—DAYMAX System, 2014, JR Planner, 6-hole, Navy w/logo

7530-01-587-9704—DAYMAX System, 2014, JR Planner, 6-hole, Black

7530-01-587-9704L—DAYMAX System, 2014, JR Planner, 6-hole, Black w/logo

7530-01-587-9706—DAYMAX System, 2015, JR Planner, 6-hole, Black

7530-01-587-9706L—DAYMAX System, 2015, JR Planner, 6-hole, Black w/logo

7530-01-587-9707—DAYMAX System, 2014, LE Planner, 3-hole, Navy

7530-01-587-9707L—DAYMAX System, 2014, LE Planner, 3-hole, Navy w/logo

7530-01-587-9709—DAYMAX System, 2015, JR Planner, 6-hole, Navy

7530-01-587-9709L—DAYMAX System, 2015, JR Planner, 6-hole, Navy w/logo

7530-01-587-9711—DAYMAX System, 2015, LE Planner, 3-hole, Black

7530-01-587-9711L—DAYMAX System, 2015, LE Planner, 3-hole, Black w/logo

7530-01-587-9712—DAYMAX System, 2015, LE Planner, 3-hole, Navy

7530-01-587-9712L—DAYMAX System, 2015, LE Planner, 3-hole, Navy w/logo

7530-01-587-9719—DAYMAX System, 2014, GLE Planner, 7-hole, Navy

7530-01-587-9719L—DAYMAX System, 2014, GLE Planner, 7-hole, Navy w/logo

7530-01-587-9720—DAYMAX System, 2015, JR Deluxe Planner, 6-hole, Digital Camouflage

7530-01-587-9720L—DAYMAX System, 2015, JR Deluxe Planner, 6-hole, Digital Camouflage w/logo

7530-01-587-9722—DAYMAX System, 2015, Planner, 7-hole, Desert Camouflage

7530-01-587-9722L—DAYMAX System, 2015, Planner, 7-hole, Desert Camouflage w/logo

7530-01-587-9731—DAYMAX System, 2014, Planner, 7-hole, Desert Camouflage

7530-01-587-9731L—DAYMAX System, 2014, Planner, 7-hole, Desert Camouflage w/logo

7530-01-588-0039—DAYMAX System, 2015, DOD Planner, 3-hole, Burgundy

7530-01-588-0039L—DAYMAX System, 2015, DOD Planner, 3-hole, Burgundy w/logo

7530-01-588-0108—DAYMAX System, 2014, DOD Planner, 3-hole, Burgundy

7530-01-588-0108L—DAYMAX System, 2014, DOD Planner, 3-hole, Burgundy w/logo

7530-01-588-0128—DAYMAX System, 2015, Planner, 7-hole, Woodland Camouflage

7530-01-588-0128L—DAYMAX System, 2015, Planner, 7-hole, Woodland Camouflage w/logo

7530-01-588-0122—DAYMAX System, 2014, Planner, 7-hole, Woodland Cam

7530-01-588-0122L—DAYMAX System, 2014, Planner, 7-hole, Woodland Camouflage w/logo

7510-01-565-8330—DAYMAX System, Replacement Binder, JR, Velcro Closure, 6-hole, Burgundy

7510-01-565-8331—DAYMAX System, Replacement Binder, JR Deluxe, Zipper Closure, 6-hole, Digital Camouflage

7510-01-565-8334—DAYMAX System, Business/Credit Card Holder, 6-hole

7510-01-566-3925—DAYMAX System, Address Directory Refill, 6-hole

7530-00-NSH-0099—DAYMAX System, Polyethylene Black Binder, 6 Ring

7510-01-565-8332—DAYMAX System, Replacement Binder, JR Deluxe, Zipper Closure, 6-hole, Black Denier

7510-01-565-8333—DAYMAX System, Replacement Binder, Zipper Closure, 7-hole, Desert Camouflage

7510-01-565-8335—DAYMAX System, Replacement Binder, JR, Velcro Closure, 6-hole, Black

7510-01-565-8336—DAYMAX System, Replacement Binder, JR, Velcro Closure, 6-hole, Navy

Mandatory Source(s) of Supply: Easter Seals Western and Central Pennsylvania, Pittsburgh, PA

Contracting Activity: General Services Administration, New York, NY

Patricia Briscoe,
Deputy Director, Business Operations (Pricing and Information Management).

[FR Doc. 2015-31263 Filed 12-10-15; 8:45 am]

BILLING CODE 6353-01-P